FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 010071-034.

Title: Cruise Lines International Association Agreement.

Parties: American Cruise Lines, Inc.; Carnival Cruise Lines; Celebrity Cruises, Inc.; Costa Cruise Lines; Crystal Cruises; Cunard Line; Disney Cruise Line; Holland America Line; MSC Cruises; Norwegian Coastal Voyage, Inc./Bergen Line Services; Norwegian Cruise Line; Oceania Cruises; Orient Lines; Princess Cruises; Regent Seven Seas Cruises; Royal Caribbean International; Seabourn Cruise Line; SeaDream Yacht Club; Silversea Cruises, Ltd. and Windstar Cruises.

Filing Party: Robert Sharak, VP Marketing & Distribution; Cruise Lines International Association; 910 SE 17th Street Ste 400, Fort Lauderdale, FL 33316.

Synopsis: The amendment would add Azamara Cruises, Inc., Majestic America Line, and Uniworld River Cruises, Inc. as parties to the agreement.

Agreement No.: 011488-003.

Title: CSAV/NYKCool Space Charter Agreement.

Parties: CSAV Sud Americana de Vapores S.A. and NYKCool AB.

Filing Party: Wayne R. Rohde, Esq.; Sher & Blackwell LLP; 1850 M Street NW; Suite 900; Washington, DC 20036.

Synopsis: The amendment changes the name LauritzenCool AB to NYKCool AB in the agreement, and republishes the agreement to reflect these changes.

By Order of the Federal Maritime Commission.

Dated: October 11, 2007.
Bryant L. VanBrakle,
Secretary.

[FR Doc. E7-20414 Filed 10-16-07; 8:45 am]

BILLING CODE 6730-01-P